SECURITIES AND EXCHANGE COMMISSION

[Release No. 34-94916; File No. SR-EMERALD-2022-12]

Self-Regulatory Organizations; MIAX Emerald, LLC; Notice of Withdrawal of Proposed Rule Change To Amend the MIAX Emerald Fee Schedule To Adopt Fees for the High Precision Network Time Signal Service

May 16, 2022.

On March 30, 2022, MIAX Emerald, LLC (“MIAX Emerald” or “Exchange”) filed with the Securities and Exchange Commission (“Commission”), pursuant to Section 19(b)(1) of the Securities Exchange Act of 1934 ¹ and Rule 19b-4 thereunder,² a proposed rule change to amend the Exchange's fee schedule to adopt fees for the High Precision Network Time Signal Service. The proposed rule change was published for comment in the Federal Register on April 18, 2022.³

¹ 15 U.S.C. 78s(b)(1).

² 17 CFR 240.19b-4.

³ See Securities Exchange Act Release No. 94697 (April 12, 2022), 87 FR 23000.

On May 5, 2022, the Exchange withdrew the proposed rule change (SR-EMERALD-2022-12).

For the Commission, by the Division of Trading and Markets, pursuant to delegated authority.⁴
⁴ 17 CFR 200.30-3(a)(12).
J. Matthew DeLesDernier,
Assistant Secretary.

[FR Doc. 2022-10801 Filed 5-19-22; 8:45 am]

BILLING CODE 8011-01-P